DEPARTMENT OF COMMERCE

Foreign-Trade Zones Board

[B-39-2014]

Foreign-Trade Zone 207—Richmond, Virginia; Application for Reorganization Under Alternative Site Framework

An application has been submitted to the Foreign-Trade Zones (FTZ) Board (the Board) by the Capital Region Airport Commission, grantee of FTZ 207, requesting authority to reorganize the zone under the alternative site framework (ASF) adopted by the Board (15 CFR Sec. 400.2(c)). The ASF is an option for grantees for the establishment or reorganization of general-purpose zones and can permit significantly greater flexibility in the designation of new “subzones” or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally docketed on May 16, 2014.

FTZ 207 was approved by the Board on March 31, 1995 (Board Order 733, 60 FR 18394-18395, 4/11/95) and expanded on September 9, 2005 (Board Order 1413, 70 FR 55107, 9/20/05). The current zone includes the following sites: Site 1 (2,044 acres)—Richmond International Airport Complex, 1 Richard E. Byrd Terminal Drive, Richmond, Henrico County; Site 2 (211 acres)—Southpoint Business Park, 8100 Quality Dr., Prince George, Prince George County; and, Site 3 (11 acres)—Lewiston Industrial Park, 11293 Central Drive, Ashland, Hanover County.

The grantee's proposed service area under the ASF would be the Counties of Amelia, Appomattox, Brunswick, Buckingham, Caroline, Charles City, Charlotte, Chesterfield, Cumberland, Dinwiddie, Essex, Greensville, Goochland, Hanover, Henrico, King and Queen, King George, King William, Lancaster, Lunenburg, Mecklenburg, Middlesex, New Kent, Northumberland, Nottoway, Powhatan, Prince Edward, Prince George, Richmond and Westmoreland and the Cities of Colonial Heights, Emporia, Hopewell, Petersburg and Richmond, as described in the application. If approved, the grantee would be able to serve sites throughout the service area based on companies' needs for FTZ designation. The proposed service area is within and adjacent to the Richmond Customs and Border Protection port of entry.

The applicant is requesting authority to reorganize its existing zone project to include all of the existing sites as “magnet” sites. The ASF allows for the possible exemption of one magnet site from the “sunset” time limits that generally apply to sites under the ASF, and the applicant proposes that Site 1 be so exempted. No subzones/usage-driven sites are being requested at this time. The application would have no impact on FTZ 207's previously authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is July 21, 2014. Rebuttal comments in response to material submitted during the foregoing period may be submitted during the subsequent 15-day period to August 5, 2014.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: May 16, 2014.
Andrew McGilvray,
Executive Secretary.

[FR Doc. 2014-11889 Filed 5-21-14; 8:45 am]

BILLING CODE 3510-DS-P